FEDERAL TRADE COMMISSION

[File No. 161 0125/Docket No. C-4604]

Petition of Enbridge Inc. To Reopen and Set Aside Order; Correction

AGENCY: Federal Trade Commission.

ACTION: Notice; correction.

SUMMARY: The Federal Trade Commission (“Commission”) published a document in the Federal Register of January 30, 2025, announcing the Commission's receipt of a petition from Enbridge Inc. (“Enbridge” or “the company”) to reopen and set aside the Commission's Decision and Order entered on March 22, 2017 (the “Order”), concerning ownership interests in competing natural gas pipelines. Shortly after publication, the Commission learned the document contained the incorrect deadline for receipt of public comments. The Commission issues this correction to reflect the corrected deadline. Comments must be received on or before February 21, 2025, not March 3, 2025.

FOR FURTHER INFORMATION CONTACT: Maribeth Petrizzi (202-326-2564), Bureau of Competition, Federal Trade Commission, 600 Pennsylvania Avenue NW, Washington, DC 20580.

SUPPLEMENTARY INFORMATION: The notice document submitted by Commission staff for publication contained an incorrect comment deadline.

Corrections

In notice FR Doc. 2025-01939 appearing at 90 FR 8530 in the Federal Register of Thursday, January 30, 2025, make the following corrections. On page 8530, in the DATES section, the date of “March 3, 2025” is corrected to read “February 21, 2025”. On page 8531, in the first column, in the third paragraph, the date in the second sentence is corrected to read “February 21, 2025” and not “March 3, 2025”. Also on page 8531, in the second column, in the final paragraph, the date in the third sentence is corrected to read “February 21, 2025” and not “March 3, 2025”.

Dated: February 3, 2025.
April J. Tabor,
Secretary.

[FR Doc. 2025-02314 Filed 2-6-25; 8:45 am]

BILLING CODE 6750-01-P